DEPARTMENT OF THE INTERIOR

National Park Service

National Register of Historic Places; Notification of Pending Nominations and Related Actions

Nominations for the following properties being considered for listing or related actions in the National Register were received by the National Park Service before August 20, 2005. Pursuant to section 60.13 of 36 CFR part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by September 28, 2005.

John W. Roberts,
Acting Chief, National Register/National Historic Landmarks Program.

ARIZONA

Mohave County

Oatman Drug Company Building, 1 Main St., Oatman, 05001064

ARKANSAS

Boone County

Duncan House, 610 W. Central Ave., Harrison, 05001065

Cleburne County

Cleburne County Farm Cemetery, SE. corner jct. Plantation Dr. E., & Deer Run, Heber Springs, 05001066

Cleveland County

Old U.S. 79, Kingsland Segment, (Arkansas Highway History and Architecture MPS) Cty. Rd. 22 between U.S. 79 & Kight Rd., Kingsland, 05001067

Drew County

Jerome Elementary School No. 22, N. Louisiana Bvd., Jerome, 05001068

Faulkner County

Ealy, Richard and Mettie, House, (Mixed Masonry Buildings of Silas Owens, Sr. MPS) 280 Solomon Grove Rd., Twin Groves, 05001069

Garrison, Dennis and Christine, House, (Mixed Masonry Buildings of Silas Owens, Sr. MPS) 105 Garrison Rd., Greenbrier, 05001070

Merritt House, (Mixed Masonry Buildings of Silas Owens, Sr. MPS) 139 N. Broadview, Greenbrier, 05001071

Robins, Reuben W., House, 508 Locust St., Conway, 05001072

Franklin County

Singleton Family Cemetery, AR 22, Charelston, 05001074

Hot Spring County

Malvern Rosenwald School, 836 Acme St., Malvern, 05001075

Jefferson County

Lone Star Baptist Church, 620 Sheridan Rd., Redfield, 05001076

Watson, John Brown, Memorial Library Building, 1200 N. University Dr., Pine Bluff, 05001073

Nevada County

Prescott City Jail, Alley behind City Hall at 118 W. Elm St., Prescott, 05001077

Ouachita County

Arkansas Highway 57 Bridge, (Historic Bridges of Arkansas MPS) AR 57 over Union Pacific RR., Stephens, 05001078

Pike County

Shelton—Lockeby House, Springhill Church Rd., Murfreesboro, 05001079

Poinsett County

Judd Hill Cotton Gin, (Cotton and Rice Farm History and Architecture in the Arkansas Delta MPS) AR 214 E. of Bridgewood Rd., Judd Hill, 05001080

Union County

Scotland Cemetery, U.S. 167, 3 mi. W. of Junction City, Junction City, 05001081

Van Buren County

Chrisco, Melvin, House, (Mixed Masonry Buildings of Silas Owens, Sr. MPS) 237 Alvin Brown Rd., Damascus, 05001082

White County

Herring Building, (White County MPS) 601-603 E. 1st. St., McRae, 05001083

CALIFORNIA

Humboldt County

Cottrell, John A., House, 1228 C St., Eureka, 05001084

Imperial County

Calexico Public Library, (California Carnegie Libraries MPS) 420 Heber Ave., Calexico, 05001085

Santa Clara County

Ainsley, John Colpitts, House No. 3, 300 Grant St., Campbell, 05001086

COLORADO

Denver County

Doud, John and Elvira, House, 750 Lafayette St., Denver, 05001087

First Baptist Church of Denver, 230 E. 14th Av.—1373 Grant St., Denver, 05001088

FLORIDA

Broward County

Williams House, 119 Rose Dr., Fort Lauderdale, 05001089

MISSOURI

Cape Girardeau County

Kage School, 3110 Kage Rd., Cape Girardeau, 05001090

Old Lorimer Cemetery, 500 N. Fountain, Cape Girardeau, 05001091

St. Vincent's College Building, 201 Morgan Oak St., Cape Girardeau, 05001092

St. Louis Independent City

Crunden, Frederick M., Branch Library, 1506 E. 14th St., St. Louis, 05001093

Moon Brothers Carriage Company Building, 1706 Delmar Bvd., St. Louis, 05001094

Washington Metropolitan African Methodist Episcopal Zion Church, 613 N. Garrison Ave., St. Louis, 05001095

NEW MEXICO

Taos County

Couse, Eanger Irving, House and Studio—Sharp, Joseph Henry, Studios, 146 Kit Carson Rd., Taos, 05001096

NORTH CAROLINA

Ashe County

Worth's Chapel, 175 Three Top Rd., Creston, 05001097

PUERTO RICO

Ponce Municipality

Casa de la Masacre, Marina St. No. 32, Ponce, 05001098

SOUTH CAROLINA

Bamberg County, Bamberg City Hall, 3069 Main Hwy, Bamberg, 05001099

Greenville County

Cannon Building, 100 N. Main St., Fountain Inn, 05001100

Marion County

Dillard Barn, (Flue-Cured Tobacco Production Properties TR) 719 Virginia Dr., Mullins, 05001101

Richland County

Columbia Township Auditorium, (Segregation in Columbia, South Carolina MPS) 1703 Taylor St., Columbia, 05001104

Harden Street Substation, (Segregation in Columbia, South Carolina MPS) 1901 Harden St., Columbia, 05001103

Williams, A.P., Funeral Home, (Segregation in Columbia, South Carolina MPS) 1808 Washington St., Columbia, 05001102

TEXAS

Marion County

Stilley—Young House, 405 Moseley St., Jefferson, 05001105

UTAH

Cache County

McMurdie—White Farmstead, 395 W. 9000 S., Paradise, 05001106

Salt Lake County

First Security Bank Building, 405 S. Main St., Salt Lake City, 05001107

VIRGINIA

Richmond Independent City

Jackson Ward Historic District (Boundary Increase), ½-17 E. Marshall St.; 0-24 W. Marshall St., Richmond, 05001108

WISCONSIN

Milwaukee County

Nohl, Mary L., Art Environment, 7328 N. Beach Rd., Fox Point, 05001109

[FR Doc. 05-18041 Filed 9-12-05; 8:45 am]

BILLING CODE 4312-51-P